DEPARTMENT OF STATE

[Public Notice #3327]

Shipping Coordinating Committee; Subcommittee on Safety of Life at Sea; Working Group on Safety of Navigation; Notice of Meeting

The Working Group on Safety of Navigation of the Subcommittee on Safety of Life at Sea (SOLAS) will conduct an open meeting at 9:30 AM on Thursday, June 22, 2000, in room 6103, U. S. Coast Guard Headquarters, 2100 Second Street, S.W., Washington, DC.

The purpose of the meeting is to prepare for the 46th session of the Subcommittee on Safety of Navigation (NAV) of the International Maritime Organization (IMO) which is scheduled for July 10-14, 2000, at the IMO Headquarters in London.

Items of principal interest on the agenda are:

—Routing of ships, ship reporting and related matters

—Amendments to the International Regulations for Prevention of Collisions at Sea, 1972 (72 COLREGS)

—Integrated bridge systems (IBS) operational aspects

—Guidelines on ergonomic criteria for bridge equipment and layout

—Navigational aids and related matters

—International Telecommunication Union (ITU) matters, including Radiocommunication ITU-R Study Group 8

—IMO Standard Marine Communication Phrases

—Guidelines relating to SOLAS chapter V

—Comprehensive review of chapter 13 of the High Speed Craft (HSC) Code

—Development of guidelines for ships operating in ice-covered waters

Members of the public may attend these meetings up to the seating capacity of the room. Interested persons may seek information by writing: Mr. Edward J. LaRue, Jr., U.S. Coast Guard (G-MWV-3), Room 1407, 2100 Second Street SW, Washington, DC 20593-0001 or by calling: (202) 267-0416.

Dated: June 9, 2000.
Stephen M. Miller,
Executive Secretary, Shipping Coordinating Committee.

[FR Doc. 00-15313 Filed 6-15-00; 8:45 am]

BILLING CODE 4710-07-U